DEPARTMENT OF THE INTERIOR

National Park Service

[NPS-WASO-NRNHL-DTS#-29244; PPWOCRADI0, PCU00RP14.R50000]

National Register of Historic Places; Notification of Pending Nominations and Related Actions

AGENCY: National Park Service, Interior.

ACTION: Notice.

SUMMARY: The National Park Service is soliciting comments on the significance of properties nominated before November 2, 2019, for listing or related actions in the National Register of Historic Places.

DATES: Comments should be submitted by December 3, 2019.

ADDRESSES: Comments may be sent via U.S. Postal Service and all other carriers to the National Register of Historic Places, National Park Service, 1849 C St. NW, MS 7228, Washington, DC 20240.

SUPPLEMENTARY INFORMATION: The properties listed in this notice are being considered for listing or related actions in the National Register of Historic Places. Nominations for their consideration were received by the National Park Service before November 2, 2019. Pursuant to Section 60.13 of 36 CFR part 60, written comments are being accepted concerning the significance of the nominated properties under the National Register criteria for evaluation.

Before including your address, phone number, email address, or other personal identifying information in your comment, you should be aware that your entire comment—including your personal identifying information—may be made publicly available at any time. While you can ask us in your comment to withhold your personal identifying information from public review, we cannot guarantee that we will be able to do so.

Nominations submitted by State Historic Preservation Officers:

IDAHO

Twin Falls County

Rogerson School, (Public School Buildings in Idaho MPS), 2291 East 1510 North, Rogerson, MP100004759

LOUISIANA

Calcasieu Parish

Lake Charles Historic District (Boundary Increase), 517 Broad St. and 517 Broad St. Rear, Lake Charles, BC100004768

Orleans Parish

U.S. Quarantine Station, W. bank of the Mississippi R., in the New Orleans neighborhood of Algiers approx. 4 mi. downriver from the Port of New Orleans, New Orleans, SG100004767

MINNESOTA

Brown County

Way of the Cross, The, 1500 Fifth Street North, New Ulm, SG100004756

Hennepin County

Minnetonka Beach Water Tower, 2510 Woodbridge Rd., Minnetonka Beach, SG100004758

Ramsey County

Watson, Dwight H. and Clara M. House, 402 Hall St., St. Paul, SG100004757

MISSISSIPPI

DeSoto County

Circle G Ranch, 5921 Goodman Rd. W (MS 302 at intersection with MS 301), Horn Lake, SG100004749

NEW JERSEY

Atlantic County

Northside Institutional Historic District, 117, 138 North Indiana Ave.; 1707, 1711, 1713, 1714 Arctic Ave.; 61A, 61B Martin Luther King Jr. Blvd., Atlantic City, SG100004764

PENNSYLVANIA

Allegheny County

Clairton Inn, 601 Miller Ave., Clairton, SG100004763

Bucks County

Stover, Jacob, Farmstead, 921 River Rd., Upper Black Eddy, SG100004762

TEXAS

Comal County

Central Fire Station, 169 Hill Ave., New Braunfels, SG100004753

Dallas County

Forest Theatre, 1904 Martin Luther King Jr. Blvd., Dallas, SG100004752

Presidio County

Blackwell School, 501 South Abbot St., Marfa, SG100004751

Travis County

West Fifth Street Bridge at Shoal Creek, West Fifth St. at Shoal Creek, Austin, SG100004750

VERMONT

Windsor County

White River Junction Historic District (Boundary Increase II), North Main St., South Main St., Bridge St., Gates St., Currier St. & Maple St., Hartford, BC100004755

WASHINGTON

Island County

Deception Pass State Park-Cornet Bay Fire Circle (Historic Park Landscapes in National and State Parks MPS), 41020 WA 20, Oak Harbor vicinity, MP100004769

Deception Pass State Park-Cranberry Lake Bathing and Picnic Area Historic District (Historic Park Landscapes in National and State Parks MPS), 41020 WA 20, Oak Harbor vicinity, MP100004770

Deception Pass State Park-Cornet Bay Incinerator (Historic Park Landscapes in National and State Parks MPS), 41020 WA 20, Oak Harbor vicinity, MP100004771

Deception Pass State Park-Rosario and Bowman Bathing, Picnic, and Caretaker's Areas, Historic District (Historic Park Landscapes in National and State Parks MPS), 41020 WA 20, Oak Harbor vicinity, MP100004772

Deception Pass State Park-Cornet Bay Campstove Shelter (Historic Park Landscapes in National and State Parks MPS), 41020 WA 20, Oak Harbor vicinity, MP100004773

Additional documentation has been received for the following resource:

VERMONT

Windsor County

White River Junction Historic District, Railroad Row, Main St., Currier St., Bridge St. & Gates St., Hartford, AD80000390

Nominations submitted by Federal Preservation Officers:

The State Historic Preservation Officer reviewed the following nominations and responded to the Federal Preservation Officer within 45 days of receipt of the nominations and supports listing the properties in the National Register of Historic Places.

ALASKA

Denali Borough

Quigley, Fannie, House (Kantishna Historic Mining Resources of Denali National Park and Preserve, MPS), Mile 92 of Denali Park Rd., approx. 270 ft. NE of terminus at the Kantishna Airstrip, Denali Park, MP100004765

Busia Cabin (Kantishna Historic Mining Resources of Denali National Park and Preserve, MPS), Approx. 900 ft. SW of Denali Park Rd. on west side of Moose Creek, Denali Park, MP100004766

Authority: Section 60.13 of 36 CFR part 60.

Dated: November 4, 2019.
Julie H. Ernstein,
Supervisory Archeologist, National Register of Historic Places/National Historic Landmarks Program.

[FR Doc. 2019-24913 Filed 11-15-19; 8:45 am]

BILLING CODE 4312-52-P